DEPARTMENT OF JUSTICE

Drug Enforcement Administration

[Docket No. DEA-932]

Bulk Manufacturer of Controlled Substances Application: SpecGX, LLC

AGENCY: Drug Enforcement Administration, Justice.

ACTION: Notice of application.

SUMMARY: SpecGX, LLC, has applied to be registered as a bulk manufacturer of basic class(es) of controlled substance(s). Refer to Supplemental Information listed below for further drug information.

DATES: Registered bulk manufacturers of the affected basic class(es), and applicants therefore, may file written comments on or objections to the issuance of the proposed registration on or before February 11, 2022. Such persons may also file a written request for a hearing on the application on or before February 11, 2022.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on September 20, 2021, SpecGX LLC, 3600 North 2nd Street, Saint Louis, Missouri 63147, applied to be registered as a bulk manufacturer of the following basic class(es) of controlled substance(s):

Controlled substance | Drug code | Schedule
Phenylacetone | 8501 | II

The company plans to manufacture the above-listed controlled substance in bulk for conversion to other controlled substances. No other activity for this drug code is authorized for this registration.

Brian S. Besser,
Acting Assistant Administrator.

[FR Doc. 2021-26907 Filed 12-10-21; 8:45 am]

BILLING CODE P